ENVIRONMENTAL PROTECTION AGENCY

40 CFR Part 63

National Emission Standards for Hazardous Air Pollutants for Source Categories

CFR Correction

In Title 40 of the Code of Federal Regulations, part 63 (§ § 63.1 to 63.599), revised as of July 1, 2002, on page 44 at the top of the first column, § 63.8 is corrected by adding paragraph designation (f) and its heading to read as follows:

§ 63.8 Monitoring requirements.

* * * * *

(f) Use of an alternative monitoring method—(1)* * *

* * * * *

[FR Doc. 03-55514 Filed 5-5-03; 8:45 am]

BILLING CODE 1505-01-D